DEPARTMENT OF HEALTH AND HUMAN SERVICES

National Institutes of Health

Center for Scientific Review; Amended Notice of Meeting

Notice is hereby given of a change in the meeting of the Viral Dynamics and Transmission Study Section, October 24, 2024, 08:00 a.m. to October 25, 2024, 06:00 p.m., National Institutes of Health, Rockledge II, 6701 Rockledge Drive, Bethesda, MD, 20892 which was published in the Federal Register on September 27, 2024, 89 FR 79302.

This meeting is being amended to change the meeting start and end time from 8:00 a.m. to 6:00 p.m. to 10:00 a.m. to 7:00 p.m. The meeting is closed to the public.

Dated: October 3, 2024.
Bruce A. George,
Program Analyst, Office of Federal Advisory Committee Policy.

[FR Doc. 2024-23221 Filed 10-7-24; 8:45 am]

BILLING CODE 4140-01-P